SMALL BUSINESS ADMINISTRATION

13 CFR Part 134

RIN 3245-AE71

Small Business Size Regulations; 8(a) Business Development/Small Disadvantaged Business Status Determinations; Rules of Procedure Governing Cases Before the Office of Hearings and Appeals; Correction

AGENCY: Small Business Administration.

ACTION: Proposed rule; correction.

SUMMARY: This document corrects the text of the proposed rule published in the Federal Register on March 12, 2002, (67 FR 11057) and corrected in the Federal Register on March 21, 2002. The rule proposes to amend SBA's regulations governing proceedings before the Office of Hearings and Appeals and to make conforming changes to several sections of the regulations governing the Small Business Size Determination program and the 8(a) Business Development (8(a) BD) program.

FOR FURTHER INFORMATION CONTACT: Michael J. Wolter, 202-401-1420.

Correction

In notice of proposed rulemaking document 02-5613 beginning on page 11057 in the issue of Tuesday, March 12, 2002, make the following corrections:

1. On page 11067, in the third column, correct § 134.313 to read as follows:

§ 134.313 Applicability of subpart B provisions.

Except where inconsistent with this subpart C, the provisions of subpart B of this part apply to appeals from size determinations and NAICS code designations.

§ 134.406 [Corrected]

2. On page 11067, in the third column, correct amendatory instruction 50.c. to read as follows:

50. c. In paragraph (c), revise the first and fourth sentences; and add a new sentence at the end.

Dated: March 19, 2002.
Gloria E. Blazsik,
Acting Assistant Administrator for Office of Hearings and Appeals.

[FR Doc. 02-6993 Filed 3-21-02; 8:45 am]

BILLING CODE 8025-01-P